DEPARTMENT OF HEALTH AND HUMAN SERVICES

Centers for Disease Control and Prevention

[30Day-05-05AF]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Office of Management and Budget, Washington, DC or by fax to (202) 395-6974. Written comments should be received within 30 days of this notice.

Proposed Project

How Miners Modify Their Behavior In Response To Personal Dust Monitor Information—New—National Institute for Occupational Safety and Health (NIOSH), Centers for Disease Control and Prevention (CDC).

Background and Brief Description

The Federal Mine Safety & Health Act of 1977, Section 501, and the Occupational Safety and Health Act of 1970, Public Law 91-256 enables CDC/NIOSH to carry out research relevant to the health and safety of workers in the mining industry. The objective of this project is to document how coal miners can use real-time information from their personal dust monitors (PDM) to reduce their exposure to respirable dust. The specific aims are to (1) identify several specific examples of how miners use PDM information to discover which parts of their jobs and/or which aspects of their work environment may be causing them to be overexposed to respirable dust, and (2) identify the types of changes that miners could make in order to try to reduce their exposure. Although the most recent data on the prevalence of Coal Workers' Pneumoconiosis (CWP) in the United States indicates that it is declining, substantial numbers of CWP cases continue to be diagnosed. In recent years, CWP has contributed to the deaths of approximately 1,000 people in the U.S. each year.

A personal dust monitor (PDM) has recently been developed through a collaboration involving NIOSH, the Bituminous Coal Operators' Association, the United Mine Workers of America, the National Mining Association, and Rupprecht & Patashnick Co., Inc. This new device represents a major advance in the tools available for assessing coal miners' exposure to respirable dust levels. It will soon be field tested with coal miners throughout the U.S. As with the introduction of any new technology, it is very important to systematically document how workers react to it and make use of it. If miners know how to properly use the information PDMs are capable of providing, they should be able to make adjustments to their work place or work procedures that will reduce their exposure to respirable coal dust.

Various parties have speculated about the processes by which miners will use the information to reduce their exposure to respirable dust. There appears to be great potential. However, no one knows precisely how miners performing a wide variety of tasks and jobs are actually going to use this new information to reduce their exposure to dust. It is assumed that, once PDMs are introduced, miners will eventually find new ways to reduce their exposure to dust. Once these discoveries are made, they need to be documented and shared throughout the industry.

The diffusion of this innovation will occur much more rapidly and efficiently if this proposed study takes place. Effective strategies for using PDM information will be well documented and quickly shared throughout the coal industry. The alternative is to wait for the miners at each of the 482 actively producing coal mines in the U.S. to go through their own trial and error process of discovering how PDMs can and cannot be used to reduce dust exposure. The proposed study will help to significantly reduce the incidence of lung disease among coal miners, leading to improvements in their longevity and quality of life.

The information for this study will be collected by conducting one-on-one structured interviews with approximately 20 miners at each of 5 mines located throughout the major coal producing regions of the U.S.

This survey will last 2 years. There will be no cost to respondents except their time to participate. The total estimated annualized burden hours are 25.

Estimate of Annualized Burden Table
Respondents | Number of respondents | Number of responses per respondent | Average burden per response (in hours)
Coal Miners | 50 | 1 | 30/60

Dated: August 18, 2005.
Joan F. Karr,
Acting Reports Clearance Officer, Centers for Disease Control and Prevention.

[FR Doc. 05-16895 Filed 8-24-05; 8:45 am]

BILLING CODE 4163-18-P